DEPARTMENT OF THE INTERIOR

National Park Service

Notice of Public Meetings for the National Park Service Alaska Region's Subsistence Resource Commission (SRC) Program

AGENCY: National Park Service, Interior.

ACTION: Notice of public meetings for the National Park Service Alaska Region's Subsistence Resource Commission (SRC) program.

SUMMARY: The Cape Krusenstern National Monument SRC, Kobuk Valley National Park SRC and Gates of the Arctic National Park SRC will meet to develop and continue work on National Park Service (NPS) subsistence hunting program recommendations and other related subsistence management issues. The NPS SRC program is authorized under Title VIII, Section 808 of the Alaska National Interest Lands Conservation Act, Public Law 96-487, to operate in accordance with the provisions of the Federal Advisory Committee Act.

Public Availability of Comments: These meetings are open to the public and will have time allocated for public testimony. The public is welcome to present written or oral comments to the SRC. Each meeting will be recorded and meeting minutes will be available upon request from the park superintendent for public inspection approximately six weeks after each meeting. Before including your address, telephone number, e-mail address, or other personal identifying information in your comment, you should be aware that your entire comment-including your personal identifying information—may be made publicly available at any time. While you can ask us in your comment to withhold your personal identifying information from public review, we cannot guarantee that we will be able to do so.

Cape Krusenstern National Monument SRC and Kobuk Valley National Park SRC Meeting Date and Location: The Cape Krusenstern National Monument SRC and Kobuk Valley National SRC meetings will be held on Monday, April 19, 2010, from 9 a.m. to 5 p.m. at the National Park Service Northwest Arctic Heritage Center, Kotzebue, AK. The meeting may end early if all business is completed.

For Further Information on the Cape Krusenstern National Monument and Kobuk Valley National Park Meeting Contact: George Helfrich, Superintendent, Western Arctic Parklands, or Willie Goodwin, Subsistence Manager, (907) 442-3890, Address: P.O. Box 1029, Kotzebue, AK 99752, or Clarence Summers, Subsistence Manager, (907) 644-3603.

Gates of the Arctic National Park SRC Meeting Date and Location: The Gates of the Arctic National Park SRC meeting will be held on Wednesday, April 28, 2010, from 9 a.m. to 10 p.m. at the Inupiat Heritage Center in Barrow, AK, (907) 852-0422. The evening session will be scheduled at the call of the Chair. A tentative plan is to break for dinner at 5 p.m., reconvene the meeting at 7 p.m. and adjourn the meeting at 10 p.m. The meeting may end early if all business is completed.

For Further Information on the Gates of the Arctic National Park SRC Meeting Contact: Dave Krupa, Subsistence Manager, Tel. (907) 455-0631, Address: 4175 Geist Road, Fairbanks, AK 99703, or Clarence Summers, Subsistence Manager, Tel. (907) 644-3603.

Proposed SRC Meeting Agenda

The proposed meeting agenda for each meeting includes the following:

1. Call to order.

2. SRC Roll Call and Confirmation of Quorum.

3. SRC Chair and Superintendent's Welcome and Introductions.

4. Approval of Minutes from Last SRC Meeting.

5. Review and Approve Agenda.

6. Status of SRC Membership.

7. SRC Member Reports.

8. Park Subsistence Manager's Report.

9. Park Staff Reports.

a. Resource Management Update.

b. Ranger Division Update.

c. Subsistence Uses of Horns, Antlers, Bones and Plants EA Update.

10. Federal Subsistence Board Update.

11. Alaska Board of Game Update.

12. Old Business.

13. New Business.

14. Public and other Agency Comments.

15. SRC Work/Training Session.

16. Set Time and Place for next SRC Meeting.

17. Adjournment.

SRC meeting locations and dates may need to be changed based on lack of quorum, inclement weather or local circumstances. If the meeting date and location are changed, a notice will be published in local newspapers and announced on local radio stations prior to the meeting date. The SRC meeting may end early if all business is completed.

Dated: March 10, 2010.
Sue E. Masica,
Regional Director, Alaska.

[FR Doc. 2010-5867 Filed 3-17-10; 8:45 am]

BILLING CODE P